DEPARTMENT OF THE INTERIOR

Bureau of Indian Affairs

Advisory Board for Exceptional Children

AGENCY: Bureau of Indian Affairs, Interior.

ACTION: Notice of meeting.

SUMMARY: In accordance with the Federal Advisory Committee Act, the Bureau of Indian Affairs is announcing that the Advisory Board for Exceptional Children will hold its next meeting in Seattle, Washington. The purpose of the meeting is to meet the mandates of the Individuals with Disabilities Education Improvement Act of 2004 (IDEIA) on Indian children with disabilities.

DATES: The Board will meet on Thursday, September 21, 2006, from 6 p.m. to 9 p.m.; Friday, September 22, 2006, 8 a.m. to 4 p.m., and Saturday, September 23, 2006, 8 a.m. to 4 p.m. Local Time.

ADDRESSES: The meetings will be held at the Marriott Sea-Tac Airport Hotel, 3201 South 176th Street, Seattle, Washington 98188.

Written statements may be submitted to Mr. Thomas M. Dowd, Director, Bureau of Indian Education, 1849 C Street, NW., MS-3609 MIB, Washington, DC 20240; Telephone (202) 208-6123; Fax (202) 208-3312.

FOR FURTHER INFORMATION CONTACT: Lynann Barbero, Acting Supervisory Education Specialist—Special Education, Bureau of Indian Education, Division of Compliance, Monitoring and Accountability, P.O. Box 1088, Suite 332, Albuquerque, New Mexico 87103; Telephone (505) 563-5270.

SUPPLEMENTARY INFORMATION: The Advisory Board was established to advise the Secretary of the Interior, through the Assistant Secretary—Indian Affairs, on the needs of Indian children with disabilities, as mandated by the Individuals with Disabilities Education Improvement Act of 2004 (Pub. L. 108-446).

The following items will be on the agenda:

• State Performance Plan.

• Special Education Supervisor Report.

• Part B State Administrative set-aside budget.

• Updates on Priority Issues.

• Compliance and Monitoring.

• Procedural Safeguards.

• Institutionalized Handicapped Program.

• Early Childhood Program.

• Coordinated Services Plan.

• Update on final IDEIA regulations.

The meetings are open to the public.

Dated: August 21, 2006.
Michael D. Olsen,
Principal Deputy Assistant Secretary—Indian Affairs.

[FR Doc. E6-14055 Filed 8-23-06; 8:45 am]

BILLING CODE 4310-6W-P